MERIT SYSTEMS PROTECTION BOARD

Agency Information Collection Activities; Proposed Collection

AGENCY: Merit Systems Protection Board.

ACTION: Notice.

SUMMARY: In compliance with the Paperwork Reduction Act (PRA), the U.S. Merit Systems Protection Board (MSPB) announces that it is planning to submit a request for a three-year extension of an Information Collection Request (ICR) to the Office of Management and Budget (OMB). Before submitting this ICR to OMB for review and approval, MSPB is soliciting comments on specific aspects of the proposed information collection as described below.

DATES: Written comments must be received on or before August 18, 2015.

ADDRESSES: Submit written comments on the collection of information to William D. Spencer, Merit Systems Protection Board, 1615 M Street NW., Washington, DC 20419; by fax: (202) 653-7130; or by email: mspb@mspb.gov.

FOR FURTHER INFORMATION CONTACT: Requests for additional information should be directed to Dr. DeeAnn Batten at (202) 254-4495 or deeann.batten@mspb.gov.

SUPPLEMENTARY INFORMATION: Under the PRA (44 U.S.C. 3501-3520), Federal agencies must obtain approval from OMB for each collection of information they conduct or sponsor. The MSPB intends to ask for a three-year renewal of its Generic Clearance Request for Voluntary Customer Surveys, OMB Control No. 3124-0012. Executive Order 12862, “Setting Customer Service Standards,” mandates that agencies identify their customers and survey them to determine the kind and quality of services they want and their level of satisfaction with existing services.

In this regard, we are soliciting comments on the public reporting burden. The reporting burden for the collection of information on this request is estimated to vary from 5 minutes to 45 minutes, with an average of 30 minutes, including time for reviewing instructions, searching existing data sources, gathering and maintaining the data needed, and completing and reviewing the collection of information. In the estimated annual reporting burden listed below, the reason that the annual number of respondents differs from the number of total annual responses is that our experience shows that only about 50% of those invited to participate in our voluntary customer surveys avail themselves of that opportunity.

In addition, MSPB invites comments on (1) whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques or other forms of information technology.

Estimated Annual Reporting Burden
5 CFR Parts | Annual number of respondents | Frequency per response | Total annual responses | Hours per response (average) | Total hours
1200-1216 | 3,000 | 1 | 1,500 | 0.50 | 750

William D. Spencer,
Clerk of the Board.

[FR Doc. 2015-15047 Filed 6-18-15; 8:45 am]

BILLING CODE 7400-01-P